DEPARTMENT OF TRANSPORTATION

Federal Aviation Administration

14 CFR Part 39

[Docket No. 98-CE-57-AD]

RIN 2120-AA64

Airworthiness Directives; Cessna Aircraft Company 150, 172, 175, 180, 182, 185, 206, 210, and 336 Series Airplanes

AGENCY: Federal Aviation Administration, DOT.

ACTION: Proposed rule; Withdrawal.

SUMMARY: This document withdraws a notice of proposed rulemaking (NPRM) that would have applied to certain Cessna Aircraft Company (Cessna) 150, 172, 175, 180, 182, 185, 206, 210, and 336 series airplanes. The proposed AD would have affected those airplanes equipped with 0513166 series plastic control wheels. The proposed AD would have required you to repetitively inspect these wheels for cracks, conduct a pull test on these wheels, and replace any control wheels that are cracked or that do not pass the pull test. Replacement of the control wheels would have been with ones that were FAA-approved and were not 0513166 series plastic control wheels. After evaluating all the comments received on the proposal, we have determined that the cracking or failure of the control wheel is not a safety hazard and that a special airworthiness information bulletin would be more appropriate. There have been only four service difficulty reports made in the FAA database; however, there were neither associated accidents nor incidents. Most of the affected airplanes have dual control wheels with each wheel having two handles for redundancy, which would provide an alternative means to control the airplane should actual failure occur. For these reasons, we are withdrawing the NPRM.

ADDRESSES: You may look at information related to this action at the Federal Aviation Administration (FAA), Central Region, Office of the Regional Counsel, Attention: Rules Docket No. 98-CE-57-AD, 901 Locust, Room 506, Kansas City, Missouri 64106, between 8 a.m. and 4 p.m., Monday through Friday, except holidays.

FOR FURTHER INFORMATION CONTACT: Eual Conditt, Aerospace Engineer, Wichita Aircraft Certification Office, FAA, 1801 Airport Road, Room 100, Wichita, Kansas 67209; telephone: (316) 946-4102; facsimile: (316) 946-4407.

SUPPLEMENTARY INFORMATION:

Discussion

What Action Has FAA Taken to Date?

We issued a proposal to amend part 39 of the Federal Aviation Regulations (14 CFR part 39) to include an AD that would have applied to certain Cessna Aircraft Company (Cessna) 150, 172, 175, 180, 182, 185, 206, 210, and 336 series airplanes. The proposal was published in the Federal Register as an NPRM on December 29, 2000 (65 FR 82954). The comment period was extended from February 2, 2001, to April 4, 2001 on January 22, 2001 (66 FR 6499). The proposed rule would have required you to:

—Repetitively inspect and pull test the 0513166 series control wheels; and

—Replace any control wheels that fail the inspection or pull test.

Was the Public Invited to Comment?

The FAA invited interested persons to participate in the making of this amendment. The comments, in most part, reflect the public's desire to have FAA withdraw the proposal and instead issue a special airworthiness information bulletin or general aviation alert. The reason for this is because there are only four service difficulty reports of control wheel cracks in the FAA database and most of the affected airplanes have dual control wheels with each wheel having two handles for redundancy, which would provide an alternative means to control the airplane should actual failure occur.

The FAA's Determination

What Is FAA's Final Determination on This Issue?

After re-evaluating all information related to this subject, we have determined that:

—The unsafe condition is appropriately addressed through a special airworthiness bulletin (No. CE-01-41);

—Because there are only four service difficulty reports of control wheel cracks in the FAA database regarding this subject on the affected airplanes, there is no need for the NPRM, Docket No. 98-CE-57-AD; and

—We should withdraw the NPRM.

Withdrawal of this action does not prevent us from taking or commit us to any future action.

Regulatory Impact

Does This Proposed AD Withdrawal Involve a Significant Rule or Regulatory Action?

Since this action only withdraws a proposed AD, it is not an AD and, therefore, is not covered under Executive Order 12866, the Regulatory Flexibility Act,or DOT Regulatory Policies and Procedures (44 FR 11034, February 26, 1979).

List of Subjects in 14 CFR Part 39

Air transportation, Aircraft, Aviation safety, Safety.

The Withdrawal

Accordingly, FAA withdraws the notice of proposed rulemaking, Docket No. 98-CE-57-AD, published in the Federal Register on December 29, 2000 (65 FR 82954) with the comment period extended from February 2, 2001, to April 4, 2001 on January 22, 2001 (66 FR 6499).

Issued in Kansas City, Missouri, on December 11, 2001.
Michael Gallagher,
Manager, Small Airplane Directorate, Aircraft Certification Service.

[FR Doc. 01-31299 Filed 12-19-01; 8:45 am]

BILLING CODE 4910-13-U